FEDERAL COMMUNICATIONS COMMISSION

[FR ID 124472]

Deletion of Items From January 26, 2023 Open Meeting

January 25, 2023.

The following items were released by the Commission on January 24, 2023 and deleted from the list of items scheduled for consideration at the Thursday, January 26, 2023, Open Meeting. These items were previously listed in the Commission's Sunshine Notice on Thursday, January 19, 2023.

3 | Media | Title: Restricted Adjudicatory Matter. Summary: The Commission will consider a restricted adjudicatory matter.
4 | Enforcement | Title: Enforcement Bureau Action. Summary: The Commission will consider an enforcement action.

Federal Communications Commission.
Marlene Dortch,
Secretary.

[FR Doc. 2023-01831 Filed 1-27-23; 8:45 am]

BILLING CODE 6712-01-P